DEPARTMENT OF THE INTERIOR

National Park Service

[NPS-NRSS-BRD-NPS0034723; PPWONRADB0PPMRSNR1Y.NM0000 (223); OMB Control Number 1024-0275]

Agency Information Collection Activities; Submission to the Office of Management and Budget for Review and Approval; Using Web and Mobile-Based Applications During NPS Citizen Science Events

AGENCY: National Park Service, Interior.

ACTION: Notice of information collection; request for comment.

SUMMARY: In accordance with the Paperwork Reduction Act of 1995, we, the National Park Service (NPS) are proposing to renew an information collection.

DATES: Interested persons are invited to submit comments on or before March 24, 2023.

ADDRESSES: Written comments and suggestions on the information collection requirements should be submitted by the date specified above in DATES to http://www.reginfo.gov/public/do/PRAMain. Find this particular information collection by selecting “Currently under Review—Open for Public Comments” or by using the search function. Please provide a copy of your comments to the NPS Information Collection Clearance Officer (ADIR-ICCO), 12201 Sunrise Valley Drive, (MS-242), Reston, VA 20191 (mail); or phadrea_ponds@nps.gov (email). Please reference OMB Control Number 1024-0275 in the subject line of your comments.

FOR FURTHER INFORMATION CONTACT: To request additional information about this ICR, contact Timothy Watkins, Science Access & Engagement Coordinator; tim_watkins@nps.gov (email); or: 202-513-7189 (phone). Please reference OMB Control Number 1024-0275 in the subject line of your comments. Individuals in the United States who are deaf, deafblind, hard of hearing, or have a speech disability may dial 711 (TTY, TDD, or TeleBraille) to access telecommunications relay services. Individuals outside the United States should use the relay services offered within their country to make international calls to the point of contact in the United States. You may also view the ICR at http://www.reginfo.gov/public/do/PRAMain.

SUPPLEMENTARY INFORMATION: In accordance with the Paperwork Reduction Act of 1995 (PRA, 44 U.S.C. 3501 et seq.) and 5 CFR 1320.8(d)(1), we provide the general public and other Federal agencies with an opportunity to comment on new, proposed, revised, and continuing collections of information. This helps us assess the impact of our information collection requirements and minimize the public's reporting burden. It also helps the public understand our information collection requirements and provide the requested data in the desired format.

A Federal Register notice with a 60-day public comment period soliciting comments on this collection of information was published on November 10, 2022 (87 FR 67955). No comments were received.

As part of our continuing effort to reduce paperwork and respondent burdens, we are again soliciting comments from the public and other Federal agencies on the proposed ICR that is described below. We are especially interested in public comment addressing the following:

(1) Whether or not the collection of information is necessary for the proper performance of the functions of the agency, including whether or not the information will have practical utility.

(2) The accuracy of our estimate of the burden for this collection of information, including the validity of the methodology and assumptions used.

(3) Ways to enhance the quality, utility, and clarity of the information to be collected.

(4) How might the agency minimize the burden of the collection of information on those who are to respond, including through the use of appropriate automated, electronic, mechanical, or other technological collection techniques or other forms of information technology, e.g., permitting electronic submission of response.

Comments that you submit in response to this notice are a matter of public record. Before including your address, phone number, email address, or other personal identifying information in your comment, you should be aware that your entire comment—including your personal identifying information—may be made publicly available at any time. While you can ask us in your comment to withhold your personal identifying information from public review, we cannot guarantee that we will be able to do so.

Abstract: The NPS is authorized by the National Park Service Protection Interpretation and research in System (54 U.S.C. 100701) to collect this information. The NPS is requesting approval to use mobile and web-based applications (e.g., iNaturalist, eBird, etc.) to collect natural history observational information from park visitors during citizen science events. The information will be used to substantiate the occurrence of plant, wildlife, and invertebrate species within NPS units during these events. By using citizen science applications, this information will be immediately available to all parks and others interested in species identification and advancing the knowledge of the natural world. Using mobile and web-based applications will enable parks to increase the number of natural history observation records that will contribute to greater understanding of the biodiversity within the park systems.

Title of Collection: Using web and mobile-based applications during NPS Citizen Science events.

OMB Control Number: 1024-0275.

Form Number: None.

Type of Review: Extension of a currently approved collection.

Respondents/Affected Public: General public, individual households, and non- federal scientists.

Total Estimated Number of Annual Respondents: 7,500.

Total Estimated Number of Annual Responses: 112,500.

Estimated Completion Time per Response: 5 minutes.

Total Estimated Number of Annual Burden Hours: 9,375 hours.

Respondent's Obligation: Voluntary.

Frequency of Collection: One time.

Total Estimated Annual Nonhour Burden Cost: None.

An agency may not conduct or sponsor and a person is not required to respond to a collection of information unless it displays a currently valid OMB control number.

The authority for this action is the Paperwork Reduction Act of 1995 (44 U.S.C. 3501 et seq.).

Phadrea Ponds,
Information Collection Clearance Officer, National Park Service.

[FR Doc. 2023-03659 Filed 2-21-23; 8:45 am]

BILLING CODE 4312-52-P